DEPARTMENT OF THE TREASURY

Submission for OMB Review; Comment Request

December 21, 2012.

The Department of the Treasury will submit the following information collection request to the Office of Management and Budget (OMB) for review and clearance in accordance with the Paperwork Reduction Act of 1995, Public Law 104-13, on or after the date of publication of this notice.

DATES: Comments should be received on or before January 28, 2013 to be assured of consideration.

ADDRESSES: Send comments regarding the burden estimate, or any other aspect of the information collection, including suggestion for reducing the burden, to (1) Office of Information and Regulatory Affairs, Office of Management and Budget, Attention: Desk Officer for Treasury, New Executive Office Building, Room 10235, Washington, DC 20503, or email at OIRA_Submission@OMB.EOP.GOV and (2) Treasury PRA Clearance Officer, 1750 Pennsylvania Ave. NW., Suite 8140, Washington, DC 20220, or email at PRA@treasury.gov.

FOR FURTHER INFORMATION CONTACT: Copies of the submission(s) may be obtained by calling (202) 927-5331, email at PRA@treasury.gov, or the entire information collection request maybe found at www.reginfo.gov.

Internal Revenue Service (IRS)

OMB Number: 1545-2007.

Type of Review: Extension without change.

Title: Employer's Annual Employment Tax Return.

Abstract: Form 944, Employer's ANNUAL Federal Tax Return, is designed so the smallest employers (those whose annual liability for social security, Medicare, and withheld federal income taxes is $1,000 or less) will file and pay these taxes only once a year instead of every quarter. Employers who discover they under or over withheld income taxes from wages or social security or Medicare tax in a prior year use Form 944-X to report those taxes and either make a payment, claim a refund, or request an abatement.

Affected Public: Private Sector: Businesses and other For-Profits.

Estimated Total Burden Hours: 15,702,300.

Robert Dahl,
Treasury PRA Clearance Officer.

[FR Doc. 2012-31147 Filed 12-27-12; 8:45 am]

BILLING CODE 4830-01-P